ENVIRONMENTAL PROTECTION AGENCY

[FRL-9211-8]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et. Seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 2370.02; Ambient Oxides of Sulfur Monitoring Regulations: Revisions to Network Design Requirements (Final Rule); 40 CFR part 58; was approved on 09/02/2010; OMB Number 2060-0642; expires on 09/30/2013; Approved with change.

EPA ICR Number 1188.10; TSCA Section 5(a); 40 CFR parts 3, 700, 720, 721, 723 and 725, was approved on 09/07/2010; OMB Number 2070-0038; expires on 11/30/2012; Approved without change.

EPA ICR Number 0574.14; Pre-Manufacture Review Reporting and Exemption Requirements for New Chemical Substances and Significant New Use Reporting Requirements for Chemical Substances; 40 CFR parts 3, 700, 720, 721, 723 and 725, 40 CFR 720.36, 40 CFR 720.38, 40 CFR 720.40, 40 CFR 723.50, 40 CFR 723.175, 40 CFR 725.15, 40 CFR 725.190, 40 CFR 725.250, 40 CFR 725.424 and 40 CFR 725.428, 40 CFR part 725 subpart F; was approved on 09/07/2010; OMB Number 2070-0012; expires on 12/31/2011; Approved without change.

EPA ICR Number 2096.04; NESHAP for Iron and Steel Foundries; 40 CFR part 63, subpart A and 40 CFR part 63, subpart EEEEE; was approved on 09/20/2010; OMB Number 2060-0543; expires on 09/30/2013; Approved without change.

EPA ICR Number 1963.04; NESHAP for Organic Liquids Distribution (Non-Gasoline) Facilities; 40 CFR part 63, subpart A and 40 CFR part 63, subpart EEEE; was approved on 09/20/2010; OMB Number 2060-0539; expires on 09/30/2013; Approved without change.

EPA ICR Number 2213.03; Control of Evaporative Emissions from New and In-Use Portable Gasoline Containers (Renewal); 40 CFR part 59, subpart F; was approved on 09/20/2010; OMB Number 2060-0597; expires on 09/30/2013; Approved without change.

EPA ICR Number 1844.04; NESHAP for Petroleum Refineries, Catalytic Cracking, Reforming and Sulfur Units; 40 CFR part 63, subpart A and 40 CFR part 63, subpart UUU; was approved on 09/20/2010; OMB Number 2060-0554; expires on 09/30/2013; Approved without change.

EPA ICR Number 2390.01; Internet Survey Research for Improving Fuel Economy Label Design and Content; was approved on 09/24/2010; OMB Number 2060-0643; expires on 03/31/2011; Approved with change.

EPA ICR Number 1780.05; Voluntary Cover Sheet for TSCA Submissions; was approved on 09/28/2010; OMB Number 2070-0156; expires on 09/30/2013; Approved without change.

EPA ICR Number 2080.04; Motor Vehicle and Engine Compliance Program Fees (Renewal); 40 CFR part 1027; was approved on 09/28/2010; OMB Number 2060-0545; expires on 09/30/2013; Approved without change.

EPA ICR Number 0309.13; Registration of Fuels and Fuel Additives: Requirements for Manufacturers (Renewal); 40 CFR part 79 subparts B and C; 40 CFR part 79.5; 49 CFR part 79 subparts B and C; was approved on 09/28/2010; OMB Number 2060-0150; expires on 09/30/2013; Approved without change.

EPA ICR Number 1659.07; NESHAP for Gasoline Distribution Facilities; 40 CFR part 63, subpart A and 40 CFR part 63, subpart R; was approved on 09/28/2010; OMB Number 2060-0325; expires on 09/30/2013; Approved without change.

EPA ICR Number 2045.04; NESHAP for Automobile and Light-duty Truck Surface Coating; 40 CFR part 63, subpart IIII; was approved on 09/28/2010; OMB Number 2060-0550; expires on 09/30/2013; Approved without change.

EPA ICR Number 1967.04; NESHAP for Stationary Combustion Turbines; 40 CFR part 63, subpart A and 40 CFR part 63, subpart YYYY; was approved on 09/28/2010; OMB Number 2060-0540; expires on 09/30/2013; Approved without change.

EPA ICR Number 0010.12; Information Requirements for Importation of Nonconforming Vehicles (Renewal); 19 CFR 12.73, 12.74, and 85.1501, 19 CFR part 85, subparts P and R, was approved on 09/28/2010; OMB Number 2060-0095; expires on 09/30/2013; Approved without change.

Comment Filed

EPA ICR Number 2028.05; NESHAP for Industrial, Commercial, and Institutional Boilers and Process Heaters at Major Sources; in 40 CFR part 63, subpart A and 40 CFR part 63, subpart DDDDD; OMB filed comment on 09/20/2010.

EPA ICR Number 2385.01; Emission Guidelines for Existing Sources: Commercial and Industrial Solid Waste Incineration (CISWI) Units; in 40 CFR part 60, subpart DDDD; OMB filed comment on 09/20/2010.

EPA ICR Number 2253.01; NESHAP for Industrial, Commercial, and Institutional Boilers Area Sources; in 40 CFR 63.6, 63.10, 63.11205, 63.11222, 63.11225, 63.11226, 63.11227 and 63.11228; OMB filed comment on 09/20/2010.

EPA ICR Number 2384.01; NSPS for Commercial and Industrial Solid Waste Incineration (CISWI) units; in 40 CFR part 60 subpart CCCC; OMB filed comment on 09/20/2010.

EPA ICR Number 2382.01; Identification of Non-Hazardous Secondary Materials That Are Solid Waste (Proposed Rule); in 40 CFR 260.22 and 260.31(c); OMB filed comment on 09/20/2010.

EPA ICR Number 1189.22; Coal Combustion Residuals Generated by Commercial Electric Power Producers (Proposed Rule); in 40 CFR 261.31, 260.34, 261.2(a)(2)ii and 261.4(a)23-25, OMB filed comment on 09/20/2010. EPA ICR Number 2391.01; Interstate Transport of Fine Particulate Matter and Ozone (Proposed Rule); in 40 CFR parts 51, 75, 96 and 97, OMB filed comment on 09/30/2010.

Dated: October 4, 2010.
John Moses,
Director, Collections Strategies Division.

[FR Doc. 2010-25426 Filed 10-7-10; 8:45 am]

BILLING CODE 6560-50-P